DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Population Health Meeting.

Time and Date:

March 8, 2012: 9 a.m.-5:30 p.m. EST;

March 9, 2012: 9 a.m.-3 p.m. EST.

Place: National Center for Health Statistics, 3311 Toledo Road, Auditorium, Hyattsville, MD 20782, Tel: 301-458-4200.

Status: Open.

Purpose: The purpose of this meeting is to gain input about the collection of socioeconomic (SES) data in federal surveys, including innovative uses of information. The intention is to describe SES measures, review SES data collection in federal surveys and provide recommendations for SES data collection within HHS.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: February 14, 2012.
James Scanlon,
Deputy Assistant Secretary for Planning and Evaluation, Office of the Assistant Secretary for Planning and Evaluation.

[FR Doc. 2012-4118 Filed 2-22-12; 8:45 am]

BILLING CODE 4151-05-P